DEPARTMENT OF LABOR

Bureau of Labor Statistics

Labor Research Advisory Council; Notice of Meetings and Agenda

The Fall meetings of committees of the Labor Research Advisory Council will be held on November 26, 27 and 28, 2001. All of the meetings will be held in the Conference Center, of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, November 26, 2001

1:30 p.m.—Committee on Prices and Living Conditions—Meeting Room 9

1. Update on program developments

a. Consumer Price Index

b. International Price Indexes

c. Producer Price Indexes

2. Topics for the next meeting

Tuesday, November 27, 2001

9:30 a.m.—Committee on Employment and Unemployment Statistics—Meeting Room 9

1. Report on the evaluation of Current Population Survey (CPS) union membership/contract coverage questions

2. American Time Use Survey update

3. Large scale layoffs, employment dynamics, and firm survival: report on BLS research using data from the Mass Layoff Statistics (MLS) program

4. Topics for the next meeting

1:30 p.m.—Committee on Occupational Safety and Health Statistics—Meeting Room 9

1. Changes to the Survey of Occupational Injuries and Illnesses in response to the new Occupational Safety and Health Administration recordkeeping requirements

2. Report on the 2000 Census of Fatal Occupational Injuries

3. Demonstration of the Census of Fatal Occupational Injuries Profiles system

4. Status report on the Survey of Respirator Use and Practices

5. Report on the Workplace Surveillance Conference sponsored by the National Institute for Occupational Safety and Health

6. Topics for the next meeting

Wednesday, November 28, 2001

9:30 a.m.—Committee on Productivity, Technology and Growth—Meeting Room 9

1. Reorganization of the Employment Projections program

2. Status of the 2000-2010 Projections

3. North American Industry Classification System (NAICS) issues

4. Project plans for Fiscal Year 2002

5. Discussion of employment projections agenda items for the Spring 2002 meeting

6. Service sector expansion plans

7. Capital measurement project for residential housing

8. Topics for the next meeting

Committee on Foreign Labor Statistics—Meeting Room 9

1. International trends in hourly compensation

2. Topics for the next meeting

1:30 p.m.—Committee on Compensation and Working Conditions—Meeting Room 9

1. Wage query system with regressions

2. Equity-based compensation

3. Topics for the next meeting

The meetings are open to the public. Persons planning to attend these meetings as observers may want to contact Wilhelmina Abner on 202-691-5970.

Signed at Washington, DC this 30th day of October, 2001.
Lois L. Orr,
Acting Commissioner.

[FR Doc. 01-27810 Filed 11-5-01; 8:45 am]

BILLING CODE 4510-24-M